DEPARTMENT OF ENERGY

Federal Energy Regulatory Commission

[Docket Nos. EL04-68-002, ER04-850-001]

Bridger Valley Electric Association, Inc., Bridger Valley Electric Association, Inc.; Notice of Filing

July 19, 2004.

Take notice that on July 14, 2004, Bridger Valley Electric Association, Inc. (Bridger Valley), submitted its compliance filing in response to the Commission's Order in Bridger Valley Electric Association, Inc., 107 FERC ¶ 61,270 (2004). Specifically, Bridger Valley states that it has filed revised tariff sheets reflecting a change to its open access transmission tariff (OATT) indicating that Order No. 2003 only covers generators greater than 20 MW.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 4, 2004.

Magalie R. Salas,
Secretary.

[FR Doc. E4-1650 Filed 7-23-04; 8:45 am]

BILLING CODE 6717-01-P